DEPARTMENT OF THE INTERIOR

Fish and Wildlife Service

[FWS-R1-SA-2016-N206; FF01SNPLC0-FXSC141001NPLC0-178]

Proposed Information Collection; Pacific Northwest Coastal Landscape Conservation Design Social Network Survey

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: To ensure that we are able to consider your comments on this IC, we must receive them by January 30, 2017.

ADDRESSES: Send your comments on the IC to the Information Collection Clearance Officer, U.S. Fish and Wildlife Service, MS BPHC, 5275 Leesburg Pike, Falls Church, VA 22041-3803 (mail); or tina_campbell@fws.gov (email). Please include “1018-PNW” in the subject line of your comments.

FOR FURTHER INFORMATION CONTACT: To request additional information about this IC, contact Tina Campbell at tina_campbell@fws.gov (email) or 703-358-2676 (telephone).

SUPPLEMENTARY INFORMATION:

I. Abstract

We will collect information on organizations' approaches to landscape scale conservation; their capacities, priorities, strategies, and approaches to collaboration; what other organizations they have sought advice from, collaborated with, or would like to collaborate with; their organizational type, size, and location; and where in the U.S. Pacific Northwest region they operate. The survey results will provide information about where, how, and with whom organizations working on coastal ecosystem issues focus their efforts, and will be used to facilitate opportunities for improved coordination and collaboration to enhance the collective impact of organizations working to protect and restore the health of U.S. Pacific Northwest coastal watersheds, estuaries, and associated ecosystems, and the communities that value, use, and depend on these resources.

II. Data

OMB Control Number: 1018-None.

Title: Pacific Northwest Coastal Landscape Conservation Design Social Network Survey.

Service Form Number: None.

Type of Request: New.

Description of Respondents: Businesses, nongovernmental organizations, local and county governments, State and tribal governments, Federal agencies, and educational institutions.

Respondent's Obligation: Voluntary.

Frequency of Collection: On occasion.

Activity | Number of respondents | Number of responses | Completion time per response (minutes) | Total annual burden hours
Survey | 200 | 180 | 30 | 90
Totals | 200 | 180 | 30 | 90

Estimated Annual Nonhour Burden Cost: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: November 22, 2016.
Tina A. Campbell,
Chief, Division of Policy, Performance, and Management Programs, U.S. Fish and Wildlife Service.

[FR Doc. 2016-28648 Filed 11-28-16; 8:45 am]

BILLING CODE 4333-15-P